DEPARTMENT OF TRANSPORTATION

Federal Aviation Administration

Revised Notice of Intent to Prepare Draft and Final Environmental Impact Statements for a Replacement Airport at St. George, UT

AGENCY: Federal Aviation Administration, DOT.

ACTION: Revision to October 7, 2002, Federal Register Notice.

Background

In the October 7, 2002, issue of the Federal Register Vol. 67, No. 194, at page 62513, the Northwest Mountain Region, Airports Division, Federal Aviation Administration (FAA), announced it intends to prepare Draft and Final Environmental Impact Statements (EIS) for the construction of a replacement airport at St. George, Utah. The following quote was included in that notice: “the FAA must evaluate the cumulative impact of noise pollution on the Park as a result of construction of the proposed replacement airport in light of air traffic near and over the Park, from whatever airport, air tours near or in the Park, and the acoustical data collected by the NPS in the Park in 1995 and 1998 mentioned in comments on the draft Environmental Assessment (EA)”. The FAA wishes to clarify that the referenced “Park” is Zion National Park.

In order to insure that all significant issues related to the proposed action are identified and given consideration, letters containing environmental concerns must be received by Dennis Ossenkop, 1601 Lind Ave. SW., Suite 315, Renton, WA 98055-4056 by November 14, 2002.

Point of Contact for Information

Dennis Ossenkop, 1601 Lind Ave., SW., Suite 315, Renton, WA 98055-4056, Telephone: (425) 227-2611.

Dated: October 24, 2002.
Lowell H. Johnson,
Manager, Airports Division Northwest Mountain Region.

[FR Doc. 02-27728 Filed 10-30-02; 8:45 am]

BILLING CODE 4910-13-M